DEPARTMENT OF COMMERCE

National Oceanic and Atmospheric Administration (NOAA)

Marine Protected Areas Federal Advisory Committee; Public Meeting

AGENCY: National Ocean Service, NOAA, Department of Commerce.

ACTION: Notice of open meeting.

SUMMARY: Notice is hereby given of a meeting of the Marine Protected Areas Federal Advisory Committee (Committee) in New Orleans, Louisiana.

DATES: The meeting will be held Tuesday, November 15, 2011, from 8:30 a.m. to 5:45 p.m., and Thursday, November 17, from 8:30 a.m. to 4:30 p.m. These times and the agenda topics described below are subject to change. Refer to the Web page listed below for the most up-to-date meeting agenda.

ADDRESSES: The meeting will be held at the Ritz Carlton Hotel, 921 Canal Street, New Orleans, 70112.

FOR FURTHER INFORMATION CONTACT: Kara Yeager, Designated Federal Officer, MPA FAC, National Marine Protected Areas Center, 1305 East West Highway, Silver Spring, Maryland 20910. (Phone: (301) 713-3100 x162, Fax: (301) 713-3110); email: kara.yeager@noaa.gov; or visit the National MPA Center Web site at http://www.mpa.gov).

SUPPLEMENTARY INFORMATION: The Committee, composed of external, knowledgeable representatives of stakeholder groups, was established by the Department of Commerce (DOC) to provide advice to the Secretaries of Commerce and the Interior on implementation of Section 4 of Executive Order 13158, which calls for the development of a National System of MPAs. The National System aims to strengthen existing MPAs and MPA programs through national and regional coordination, capacity building, science and analysis. The meeting is open to the public, and public comment will be accepted from 4:30 p.m. to 5:30 p.m. on Tuesday, November 15, 2011. In general, each individual or group will be limited to a total time of five (5) minutes. If members of the public wish to submit written statements, they should be submitted to the Designated Federal Official by November 10, 2011.

Matters to be Considered: The focus of the Committee's meeting will be the completion and approval of recommendations from the Land, Sea and Communities Subcommittee and the Cultural Heritage Workgroup by the full MPA FAC. The Committee will receive an update on the Administration's National Ocean Policy and Coastal and Marine Spatial Planning initiatives, and their linkages to the national system of MPAs. The agenda is subject to change. The latest version will be posted at http://www.mpa.gov.

Dated: October 21, 2011.
Donna Wieting,
Director, Office of Ocean and Coastal Resource Management, National Ocean Service, National Oceanic Atmospheric Administration.

[FR Doc. 2011-27914 Filed 10-27-11; 8:45 am]

BILLING CODE P